FEDERAL COMMUNICATIONS COMMISSION

47 CFR Part 73

[DA 08-2590; MB Docket No. 08-228; RM-11481]

Radio Broadcasting Services; Port Angeles, WA

AGENCY: Federal Communications Commission.

ACTION: Proposed rule.

SUMMARY: The Audio Division requests comment on a petition filed by Jodesha Broadcasting, Inc., licensee of Station KANY(FM), Ocean Shores, Washington, and permittee of Station KSWW(FM), Montesano, Washington, proposing the substitution of FM Channel 271A for vacant Channel 229A at Port Angeles, Washington. The reference coordinates for Channel 271A at Port Angeles, Washington, are 48-06-54 NL and 123-26-36 WL. See SUPPLEMENTARY INFORMATION, infra.

DATES: Comments must be filed on or before January 21, 2009, and reply comments on or before February 5, 2009.

ADDRESSES: Federal Communications Commission, 445 Twelfth Street, SW., Washington, DC 20554. In addition to filing comments with the FCC, interested parties should serve the petitioner, his counsel, or consultant, as follows: David Tillotson, Esq., 4606 Charleston Terrace, NW., Washington, DC 20007 (Counsel for Jodesha Broadcasting, Inc.).

FOR FURTHER INFORMATION CONTACT: Andrew J. Rhodes, Media Bureau, (202) 418-2180.

SUPPLEMENTARY INFORMATION: This is a synopsis of the Commission's Notice of Proposed Rulemaking, MB Docket No. 08-228, adopted November 26, 2008, and released November 28, 2008. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The proposed channel substitution at Port Angeles is part of a hybrid application and rulemaking proceeding. In the first application, Jodesha Broadcasting proposes the upgrade of Channel 229C3 to Channel 229C0 at Ocean Shores, the reallotment of Channel 229C0 to Montesano, Washington, and the associated modification of the Station KANY(FM) license. To retain a first local service at Ocean Shores, the second application proposes the downgrade of Channel 271C2 to Channel 271C3 at Montesano, Washington, the reallotment of Channel 271C3 to Ocean Shores, and the modification of the Station KSWW(FM) construction permit. See 73 FR 50015 (August 25, 2008).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Washington, is amended by removing 229A and adding Channel 271A at Port Angeles.

Federal Communications Commission.
John A. Karousos,
Assistant Chief, Audio Division, Media Bureau.

[FR Doc. E8-29516 Filed 12-11-08; 8:45 am]

BILLING CODE 6712-01-P